DEPARTMENT OF EDUCATION

34 CFR Chapter VI

[Docket No. ED-2014-OPE-0038; CFDA Number: 84.015A.]

Proposed Priorities—National Resource Centers Program

AGENCY: Office of Postsecondary Education, Department of Education.

ACTION: Proposed Priorities.

SUMMARY: The Acting Assistant Secretary for Postsecondary Education proposes two priorities for the National Resource Centers (NRC) Program administered by the International and Foreign Language Education (IFLE) Office. The Acting Assistant Secretary may use these priorities for competitions in fiscal year (FY) 2014 and later years. We take this action to focus Federal financial assistance on an identified national need. We intend the priority to address a gap in the types of institutions, faculty, and students that have historically benefitted from the instruction, training, and outreach available at national resource centers and to address a shortage in the number of teachers entering the teaching profession with international education and world language training certification and credentials.

DATES: We must receive your comments on or before April 17, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Patricia Barrett, U.S. Department of Education, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Cheryl E. Gibbs. Telephone: (202) 502-7634 or by email: cheryl.gibbs@ed.gov.

If you use a telecommunications device for the deaf (TDD) or a text telephone (TTY), call the Federal Relay Service (FRS), toll free, at 1-800-877-8339.

SUPPLEMENTARY INFORMATION:

Invitation to Comment: We invite you to submit comments on these proposed priorities. To ensure that your comments have maximum effect in developing the final priorities, we urge you to identify clearly the specific priority that each comment addresses.

We invite you to assist us in complying with the specific requirements of Executive Orders 12866 and 13563 and their overall requirements of reducing regulatory burden that might result from these proposed priorities. Please let us know of any further ways we could reduce potential costs or increase potential benefits while preserving the effective and efficient administration of the program.

During and after the comment period, you may inspect all public comments about this notice in room 6083, 1990 K St. NW., Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The NRC Program provides grants to institutions of higher education or consortia of such institutions to establish, strengthen, and operate comprehensive and undergraduate foreign language and area or international studies centers that will be national resources for: (a) Teaching of any modern foreign language; (b) instruction in fields needed to provide full understanding of areas, regions, or countries in which the modern language is commonly used; (c) research and training in international studies and the international and foreign language aspects of professional and other fields of study; and (d) instruction and research on issues in world affairs that concern one or more countries.

Program Authority: 20 U.S.C. 1122.

Applicable Program Regulations: 34 CFR parts 655 and 656.

Proposed Priorities: This notice contains two proposed priorities.

Background:

The NRC Program is authorized by section 602 of the Higher Education Act of 1965, as amended (HEA). Through this program, the Department makes awards to institutions of higher education, or consortia of institutions of higher education, to establish, strengthen, or operate nationally recognized foreign language and area or international studies centers or programs. Grant awards may be used to support undergraduate centers or comprehensive centers that provide training at undergraduate, graduate, and professional levels.

The objective of the NRC Program is to increase the national capacity in world language instruction and learning, instruction and research on issues in world affairs, and instruction, outreach, and teacher training in fields needed to provide full understanding of areas, regions, or countries in which the world languages are used, among other allowable activities.

We are proposing two priorities to address a gap in the types of institutions, faculty, and students that have historically benefitted from the instruction, training, and outreach available at national resource centers and to address a shortage in the number of teachers entering the teaching profession with international education and world language training certification and credentials.

We first propose a priority for applications that propose collaborative activities with a Minority-Serving Institution (MSI) or a community college. Currently the National Resource Centers collaborate with MSIs and community colleges only ad hoc. This, however, limits the extent to which the instruction, training, and professional development resources are regularly available to and accessed by students and faculty at MSIs and community colleges. We believe that by requiring NRC institutions and MSIs and community colleges to jointly plan, conduct, and implement activities, the international programming, student instruction, career advising, and faculty development opportunities on all campuses will be strengthened and expanded. These collaborations also enhance institutional capacity to recruit students into international studies and foreign language training.

Research data indicate that minority students are less likely to have access to, or consider academic programs that provide the requisite training for careers in international service, including study abroad and area studies. (Tillman, “Diversity in Education Workshop Summary Report”, September, 2010.)

Among the barriers preventing these students from pursuing international studies are a lack of exposure to international opportunities, and lack of access to information, including information about international careers. (Belyavina and Bhandari, “Increasing Diversity in International Careers: Economic Challenges and Solutions”, International Institute of Education, November 2011.)

We believe that by specifying the types of institutional collaborations that the National Resource Centers must engage in, and the types of collaborative activities they must conduct, the activities are more likely both to have a meaningful and measurable effect on students and faculty at MSIs and community colleges and be institutionalized and sustained. We also believe that successful institutional collaborations of this nature will increase the access of traditionally underserved populations to opportunities for international and foreign language learning and the visibility of international and foreign language programs and activities on the campuses of MSIs and community colleges. For this priority, we propose a definition of “Minority-Serving Institution” that would include institutions eligible to receive assistance under §§ 316 through 320 of part A of Title III, under part B of Title III, or under Title V of the HEA.

The Department would use this definition because both Title III and Title V programs target college student populations that are underrepresented in international education. The Department would like to increase the representation of these groups through collaborations between Title III/Title V institutions and Title VI institutions.

Title III reflects our national interest to provide support to those institutions of higher education that serve low-income and minority students so that equality of access and quality of postsecondary education opportunities may be enhanced for all students. Under the Title III, institutions may receive designation of eligibility depending on their submitted institutional evidence documenting their student demographic data.

Title V targets Hispanic-Serving Institutions (HSIs) because of the high percentage of Hispanic Americans who are at risk of not enrolling in or graduating from institutions of higher education. The law was designed to reduce disparities between the enrollment of non-Hispanic white students and Hispanic students in postsecondary education, which continue to rise.

Because the purpose of this priority to extend the reach of NRCs to institutions that have benefitted less from the instruction, training, and outreach the NRCs make available, we propose a definition of “community college” for use with this priority that is broader than the definition in the HEA. The definition of “junior or community college” in section 312(f) of the HEA (20 U.S.C. 1058(f)) excludes institutions that award bachelor's and graduate degrees. For the purpose of this priority, we propose to include in the definition of “community college” institutions that offer bachelor's or graduate degrees if more than 50 percent of the degrees and certificates they award are degrees and certificates that are not bachelor's or graduate degrees. We propose this definition to include institutions that serve significant numbers of students enrolled in programs traditionally offered by community colleges, such as associate degree and certificate programs. We propose a second priority for applicants that propose to collaborate with schools or colleges of education. This priority is designed to help address the shortage of qualified teachers who are trained, certified, and credentialed to teach world languages in kindergarten through grade 12 (K-12) schools. The priority also is intended to contribute to an increase in the number of prospective teachers who have access to international courses, training, and cultural experiences that will help to enhance their instructional practice. A study commissioned by the National Research Council of the National Academies determined that the lack of international and global teacher preparation curricula and advanced language training programs represent major hurdles in addressing the current critical shortage of language teachers. The committee called for greater collaboration among schools of education and language, international, and area studies departments to provide better training for language teachers (International Education and Foreign Languages: Keys to Securing America's Future, The National Academies Press, 2007).

One of the invitational priorities for the current FY 2010-2013 NRC grant cycle encourages the NRCs to collaborate with all professional schools on their campuses, including schools of business, law, public health, journalism, and education. We propose the second priority to focus specifically on collaborations with the college or school of education on the NRC campus. This targeted collaboration is designed to help provide future teachers with the training required to teach world languages and international studies courses. This cadre of teachers is vital to teaching students to live and work in a world with diverse peoples, languages, and cultures that are ever more interconnected.

This priority both supports the teacher training purpose of the NRC Program and contributes to the vision for teaching and leading reflected in the Department's Blueprint for Recognizing Educational Success, Professional Excellence, and Collaborative Teaching (RESPECT), which aims, among other things, to elevate and transform teaching and learning so that all students are prepared to meet the demands of the 21st century. Research compiled during the preparation of the RESPECT blueprint concluded that students with effective teachers perform at higher levels, and have higher graduation rates, higher college-going rates, higher levels of civic participation, and higher lifetime earnings. The research also concluded that attracting a high-performing and diverse pool of talented individuals to become teachers is a critical priority (http://www2.ed.gov/documents/respect/blueprint-for-respect.pdf).

This priority would promote the increased integration of international, intercultural, and global perspectives in teacher education and would enhance the capabilities of teachers to provide instruction in foreign languages and international and area studies.

The priorities are: Proposed Priority 1: Applications that propose significant and sustained collaborative activities with a Minority-Serving Institution (MSI) (as defined in this notice) or a community college (as defined in this notice). These activities must be designed to incorporate international, intercultural, or global dimensions into the curriculum of the MSI or community college, and to improve foreign language, area, and international studies or international business instruction on the MSI or community college campus.

For the purpose of this priority:

Community college means an institution that meets the definition in section 312(f) of the HEA (20 U.S.C. 1058(f)); or an institution of higher education (as defined in section 101 of the HEA (20 U.S.C. 1001)) that awards degrees and certificates, more than 50 percent of which are not bachelor's degrees (or an equivalent) or master's, professional, or other advanced degrees.

Minority-Serving Institution means an institution that is eligible to receive assistance under sections 316 through 320 of part A of Title III, under part B of Title III, or under Title V of the HEA.

Proposed Priority 2: Applications that propose collaborative activities with schools or colleges of education to support the integration of an international, intercultural, or global dimension and world languages into teacher education and to promote the preparation and credentialing of more foreign language teachers in less commonly taught languages.

Types of Priorities:

When inviting applications for a competition using one or more priorities, we designate the type of each priority as absolute, competitive preference, or invitational through a notice in the Federal Register. The effect of each type of priority follows:

Absolute priority: Under an absolute priority, we consider only applications that meet the priority (34 CFR 75.105(c) (3)).

Competitive preference priority: Under a competitive preference priority, we give competitive preference to an application by (1) awarding additional points, depending on the extent to which the application meets the priority (34 CFR 75.105(c) (2) (i)); or (2) selecting an application that meets the priority over an application of comparable merit that does not meet the priority (34 CFR 75.105(c) (2) (ii)).

Invitational priority: Under an invitational priority, we are particularly interested in applications that meet the priority. However, we do not give an application that meets the priority a preference over other applications (34 CFR 75.105(c) (1)).

Final Priorities:

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use one or more of these priorities we invite applications through a notice in the Federal Register.

Executive Orders 12866 and 13563

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Paperwork Reduction Act of 1995

As part of its continuing effort to reduce paperwork and respondent burden, the Department provides the general public and Federal agencies with an opportunity to comment on proposed and continuing collections of information in accordance with the PRA (44 U.S.C. 3506(c)(2)(A)). The Department plans to revise the information collection for the NRC Program by including more detailed guidance to assist applicants in responding to the Impact and Evaluation selection criterion in §§ 656.21 and 656.22 of the NRC Program regulations and by requiring a new performance measure form (PMF). The PMF will require applicants to identify project goals and project-specific measures for the NRC Program project they propose to conduct. Information will also be provided on how applicants, should they become grantees, will meet and report on the Government Performance and Results Act (GPRA) measures that have been developed for the NRC Program.

The IFLE Office developed this PMF so that applicants may propose projects with high-quality implementation plans at the outset and will require them to lay a stronger foundation for reporting progress and performance results. Additionally, the form will provide the Department information that is more useful and valid in demonstrating to Congress and other stakeholders the impact of NRC projects.

And finally, the PMF is designed to provide a standardized format that applicants can use to present performance information in their applications. The PMF requests the following: (a) Project goal statement; (b) Performance measure; (c) Project activity; (d) Data/Indices; (e) Frequency of collection; (f) Data source; and (g) Baseline and targets.

We will also include in the information collection detailed guidance on how applicants can respond to the “Impact and Evaluation” criterion in a more comprehensive and compelling manner.

In order to mitigate against a significant increase in respondent burden, applicants will be required to complete only items (a), (b), and (c) on the PMF when they submit their FY 2014 grant applications. If the application is recommended for funding, we will require the submission of fully completed forms.

We anticipate that the Impact and Evaluation narrative and the PMFs may result in some additional time requirements in the application preparation, but will reduce the total burden hours for performance reporting because the form is designed to facilitate data collection and reporting. We expect the new evaluation plan for this information collection will increase the applicant burden by an estimated 50 hours per response for a total burden of 450 hours per response. We believe that this additional time will improve the quality of the submitted applications and subsequently improve the application review, grant making, and performance reporting processes. When the awards are made, grantees will already be fully aware of the reporting requirements.

If you want to comment on the proposed information collection requirements, please send your comments to the Office of Information and Regulatory Affairs, OMB, Attention: Desk Officer for U.S. Department of Education. Send these comments by email to OIRA_DOCKET@omb.eop.gov or by fax to (202) 395-6974. You may also send a copy of these comments to the Department contact named in the ADDRESSES section of this preamble or submit electronically through the Federal eRulemaking Portal at http://www.regulations.gov by selecting Docket ID ED-2014-OPE-0038.

Please be advised that the public comment period for submitting comments on the notice of proposed priorities (NPP) is the same for submitting comments on the information collection (IC); therefore, use the NPP Docket number as the identifier for both sets of comments. You may, however, submit the NPP comments and the IC comments separately in the regulations.gov site.

We have prepared an ICR for this collection. In preparing your comments you may want to review the ICR, which is available at www.reginfo.gov. Click on Information Collection Review. This proposed collection is identified as proposed collection 1840-0807 ED-2014-OPE-0038.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the Information we collect; and

• Minimizing the burden on those who must respond. This includes exploring the use of appropriate automated, electronic, mechanical, or other technological collection techniques.

OMB is required to make a decision concerning the collection of information contained in these proposed regulations between 30 and 60 days after publication of this document in the Federal Register. Therefore, to ensure that OMB gives your comments full consideration, it is important that OMB receives your comments by April 17, 2014. This does not affect the deadline for your comments to us on the proposed regulations.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 13, 2014.
Lynn B. Mahaffie,
Senior Director, Policy Coordination, Development, and Accreditation Service, delegated the authority to perform the functions and duties of the Assistant Secretary for Postsecondary Education.

[FR Doc. 2014-05927 Filed 3-17-14; 8:45 am]

BILLING CODE 4000-01-P